DEPARTMENT OF LABOR

Employment and Training Administration

[TA-W-72,778]

Kenco Logistic Services, LLC, Electrolux Webster City, Including On-Site Leased Workers From Spherion Staffing Services and Manpower, Webster City, IA; Amended Certification Regarding Eligibility To Apply for Worker Adjustment Assistance

In accordance with Section 223 of the Trade Act of 1974, as amended (“Act”), 19 U.S.C. 2273, the Department of Labor issued a Certification of Eligibility to Apply for Worker Adjustment Assistance on January 8, 2010, applicable to workers of Kenco Logistic Services, LLC, Electrolux Webster City, including on-site leased workers of Spherion Staffing Services, Webster City, Iowa. The notice was published in the Federal Register on February 16, 2010 (75 FR 7037).

At the request of the State agency, the Department reviewed the certification for workers of the subject firm. The workers provided third party logistic services for the Electrolux, Webster City, Iowa.

The company reports that workers leased from Manpower were employed on-site at the Webster City, Iowa location of Kenco Logistic Services, LLC, Electrolux Webster City. The Department has determined that these workers were sufficiently under the control of the subject firm to be considered leased workers.

Based on these findings, the Department is amending this certification to include workers leased from Manpower working on-site at the Webster City, Iowa location of Kenco Logistic Services, LLC, Electrolux Webster City.

The amended notice applicable to TA-W-72,778 is hereby issued as follows:

All workers of Kenco Logistic Services, LLC, Electrolux Webster City, including on-site leased workers from Spherion Staffing Services and Manpower, Webster City, Iowa, who became totally or partially separated from employment on or after November 5th, 2008, through January 8, 2012, and all workers in the group threatened with total or partial separation from employment on the date of certification through two years from the date of certification, are eligible to apply for adjustment assistance under Chapter 2 of Title II of the Trade Act of 1974, as amended.

Signed in Washington, DC, this 19th day of April 2010.
Michael W. Jaffe,
Certifying Officer, Division of Trade Adjustment Assistance.

[FR Doc. 2010-9924 Filed 4-28-10; 8:45 am]

BILLING CODE 4510-FN-P